SUSQUEHANNA RIVER BASIN COMMISSION

Projects Approved for Minor Modifications

AGENCY: Susquehanna River Basin Commission.

ACTION: Notice.

SUMMARY: This notice lists the minor modifications approved for a previously approved project by the Susquehanna River Basin Commission during the period set forth in DATES.

DATES: August 16, 2016, to March 31, 2017.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists previously approved projects, receiving approval of minor modifications, described below, pursuant to 18 CFR 806.18 for the time period specified above:

Minor Modifications Issued Under 18 CFR 806.18

1. Essential Power Rock Springs LLC, Rock Springs Generation Facility, Docket No. 20001203-2, Rising Sun District, Cecil County, Md.; approval to change the authorized water use purpose, on an interim basis, to include bulk water supply to the neighboring Wildcat Point Generation Facility; Approval Date: August 16, 2016.

2. Essential Power Rock Springs LLC, Rock Springs Generation Facility, Docket No. 20001203-3, Rising Sun District, Cecil County, Md.; approval to add Wildcat Point Generation Facility as a source for project consumptive water use to be used as a replacement for the existing sources and rescission of the approval for surface water withdrawal from the on-site stormwater pond; Approval Date: January 6, 2017.

3. Old Dominion Electric Cooperative, Wildcat Point Generation Facility, Docket No. 20140308-1, Rising Sun District, Cecil County, Md.; approval to add Rock Springs Generation Facility as a source for project consumptive water use, on an interim basis, until the approved new water source under Docket No. 20140308 is available; Approval Date: August 16, 2016.

4. Old Dominion Electric Cooperative, Wildcat Point Generation Facility, Docket No. 20140308-2, Rising Sun District, Cecil County, Md.; approval to change the authorized water use purpose to include bulk water supply to the neighboring Rock Springs Generation Facility; Approval Date: January 6, 2017.

5. Patton Borough, Docket No. 20121221-1, Clearfield Township, Cambria County, Pa.; approval of an increase in the total system limit from 0.339 mgd established in Docket No. 20121221 to 0.632 mgd; Approval Date: September 26, 2016.

6. Renovo Energy Center LLC, Docket No. 20160608-1, Renovo Borough, Clinton County, Pa.; approval to add Renovo Borough Water Authority as a source for project consumptive water use, on an interim basis, until the approved new water source under Docket No. 20160608 is available; Approval Date: March 24, 2017.

Authority: Pub. L. 91-575, 84 Stat. 1509 et seq., 18 CFR parts 806, 807, and 808.

Dated: April 18, 2017.
Stephanie L. Richardson,
Secretary to the Commission.

[FR Doc. 2017-08091 Filed 4-20-17; 8:45 am]

BILLING CODE 7040-01-P